DEPARTMENT OF AGRICULTURE

Forest Service

Columbia County Resource Advisory Committee (RAC)

AGENCY: Forest Service, USDA.

ACTION: Notice of meeting.

SUMMARY: Pursuant to the authorities in the Federal Advisory Committees Act (Pub. L. 92-463), the Columbia County Resource Advisory Committee (RAC) will meet on December 9, 2002 in Dayton, Washington. The purpose of the meeting is to discuss the selection of Title II projects under Public Law 106-393, H.R. 2389, the Secure Rural Schools and Community Self-Determination Act of 2000, also called the “Payments to States” Act, for Fiscal Year 2003 and outyears.

DATES: The meeting will be held on December 9, 2002 from 6 p.m. to 8 p.m.

ADDRESSES: The meeting will be held at the Dayton Post Office located at 202 South 2nd Street, Dayton, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: The meeting is open to the public. Public input will be solicited and individuals will have the opportunity to address the committee at that time.

Dated: November 26, 2002.
Monte Fujishin,
Designated Federal Official.

[FR Doc. 02-30748 Filed 12-3-02; 8:45 am]

BILLING CODE 3410-11-M